DEPARTMENT OF COMMERCE

National Oceanic and Atmospheric Administration

RIN: 0648-XJ28

Endangered Species; File No. 13330

AGENCY: National Marine Fisheries Service (NMFS), National Oceanic and Atmospheric Administration (NOAA), Commerce.

ACTION: Issuance of permit.

SUMMARY: Notice is hereby given that the Southeast Fisheries Science Center (SEFSC), National Marine Fisheries Service (NMFS), 75 Virginia Beach Drive Miami, Florida 33149, has been issued a permit to take smalltooth sawfish (Pristis pectinata) for purposes of scientific research.

ADDRESSES: The permits and related documents are available for review upon written request or by appointment in the following offices:

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

FOR FURTHER INFORMATION CONTACT: Patrick Opay or Jennifer Skidmore, (301)713-2289.

SUPPLEMENTARY INFORMATION: On April 2, 2008, notice was published in the Federal Register (73 FR 17955) that a request for scientific research permit to take smalltooth sawfish had been submitted by the above-named institution. The requested permit has been issued under the authority of the Endangered Species Act of 1973, as amended (ESA; 16 U.S.C. 1531 et seq.) and the regulations governing the taking, importing, and exporting of endangered and threatened species (50 CFR parts 222-226).

The research will be conducted each year over the course of a five-year permit in coastal waters of Florida. Up to 45 smalltooth sawfish will be taken annually using nets and hook and line gear. Researchers will conduct a variety sampling and tagging activities in order to collect biological and ecological information on these species that will help efforts to conserve them. Up to 2 loggerhead (Caretta caretta) and one green (Chelonia mydas) or hawksbill (Eretmochelys imbricata) or leatherback (Dermochelys coriacea) or Kemp's ridley (Lepidochelys kempii) sea turtle, and one American crocodile (Crocodylus acutus) could be lethally taken during the smalltooth sawfish research.

Issuance of this permit, as required by the ESA, was based on a finding that such permit (1) was applied for in good faith, (2) will not operate to the disadvantage of such endangered or threatened species, and (3) is consistent with the purposes and policies set forth in section 2 of the ESA.

Dated: October 1, 2008.
P. Michael Payne,
Chief, Permits, Conservation and Education Division, Office of Protected Resources, National Marine Fisheries Service.

[FR Doc. E8-23741 Filed 10-6-08; 8:45 am]

BILLING CODE 3510-22-S